GENERAL SERVICES ADMINISTRATION

[OMB Control No. 3090-0118]

Submission for OMB Review; Comment Request Entitled Standard Form 94, Statement of Witness

AGENCY: Federal Vehicle Policy Division, GSA.

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement concerning Standard Form 94, Statement of Witness.

DATES: Comments may be submitted on or before September 17, 2001.

FOR FURTHER INFORMATION CONTACT: Michael Moses, Federal Vehicle Policy Division, (202) 501-2507.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 2040.

SUPPLEMENTARY INFORMATION:

A. Purpose

The General Services Administration is requesting the Office of Management and Budget (OMB) to review and approve information collection, 3090-0118, concerning Standard Form 94, Statement of Witness. This form is used by all Federal agencies to report accident information involving U.S. Government motor vehicles.

B. Annual Reporting Burden

Respondetns: 874.

Annual Responses: 874.

Burden Hours: 291.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0118, Standard Form 94, Statement of Witness, in all correspondence.

Dated: July 3, 2001.
Gloria M. Sochon,
Acting Deputy Associate Administrator, Office of Acquisition Policy.

[FR Doc. 01-17756 Filed 7-16-01; 8:45 am]

BILLING CODE 6820-61-M